DEPARTMENT OF THE INTERIOR

National Park Service

[NPS-WASO-NRSS-EQD-SSB-17345; PX.XBSAD0104.00.1]

Proposed Information Collection: The National Parks and Federal Recreation Lands Pass Survey

AGENCY: National Park Service, Interior.

ACTION: Notice; request for comments.

SUMMARY: We (National Park Service) will ask the Office of Management and Budget (OMB) to approve the information collection (IC) concerning the National Parks and Federal Recreational Lands Passes—specifically focused on the online and telephone customers. As required by the Paperwork Reduction Act of 1995 and as part of our continuing efforts to reduce paperwork and respondent burden, we invite the general public and other federal agencies to take this opportunity to comment on this IC. A federal agency not conduct or sponsor, and a person is not required to respond to, a collection of information unless it displays a currently valid OMB control number.

DATES: To ensure that your comments on this IC are considered, we must receive them on or before February 23, 2015.

ADDRESSES: Direct all written comments on this IC to Phadrea Ponds, Information Collection Coordinator, National Park Service, 1201 Oakridge Drive, Fort Collins, CO 80525 (mail); or pponds@nps.gov (email). Please reference Information Collection 1024-NEW in the subject line.

FOR FURTHER INFORMATION CONTACT: Joshua Nadas, National Park Service. 1201 Eye Street NW., 9th Floor. Washington, DC 20005. Joshua_Nadas@nps.gov (email); or: 202.354.6909 (phone).

SUPPLEMENTARY INFORMATION:

I. Abstract

The National Parks and Federal Recreational Lands Pass is an interagency pass series that is available for purchase by the public, and provides pass holders with admission to National Parks and other Federal recreational lands where an entrance or standard amenity fee is charged. Three passes ($80 Annual Pass for general members of the public; $10 Senior Pass for U.S. citizens or permanent residents 62 or older; and a free Access Pass for U.S. citizens or permanent residents with a permanent disability) will be included in this study. This study will focus on passes purchased online and over the phone. The purpose of this collection is to learn how passes purchased online and by phone are used in the partnering land management agency.

II. Data

OMB Control Number: None. This is a new collection.

Title: The National Parks and Federal Recreation Lands Pass Survey.

Type of Request: New.

Affected Public: General public and individual households.

Respondent Obligation: Voluntary.

Frequency of Collection: One-time.

Estimated Number of Annual Responses: 1,055.

Annual Burden Hours: We estimate the total annual burden for this collection will be 352 hours (20 minutes per completed survey response).

Estimated Reporting and Recordkeeping “Non-Hour Cost” Burden: We have not identified any “non-hour cost” burdens associated with this collection of information.

III. Request for Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: December 17, 2014.
Madonna L. Baucum,
Information Collection Clearance Officer, National Park Service.

[FR Doc. 2014-30065 Filed 12-22-14; 8:45 am]

BILLING CODE 4310-EH-P